DEPARTMENT OF HOMELAND SECURITY

Coast Guard

33 CFR Part 117

[Docket No. USCG-2014-1026]

Drawbridge Operation Regulations; Mystic River, Mystic, CT

AGENCY: Coast Guard, DHS.

ACTION: Notice of deviation from drawbridge regulation.

SUMMARY: The Coast Guard has issued a temporary deviation from the operating schedule that governs the Amtrak Railroad Bridge across the Mystic River, mile 2.4, at Mystic, Connecticut. This deviation is necessary to allow the bridge owner to perform mechanical and electrical repairs at the bridge. This deviation allows the bridge to remain closed for two 14 day closures and two 10 day closures.

DATES: This deviation is effective from January 24, 2015 through March 27, 2015.

ADDRESSES: The docket for this deviation, [USCG-2014-1026] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC, 20590, between 9 a.m. and 5 p.m., Monday through Friday, except Federal holidays.

FOR FURTHER INFORMATION CONTACT: If you have questions on this temporary deviation, call or email Ms. Judy Leung-Yee, Project Officer, First Coast Guard District, telephone (212) 514-4330, judy.k.leung-yee@uscg.mil. If you have questions on viewing the docket, call Cheryl Collins, Program Manager, Docket Operations, telephone (202) 366-9826.

SUPPLEMENTARY INFORMATION: The Amtrak Railroad Bridge across the Mystic River, mile 2.4, at Mystic, Connecticut, has a vertical clearance in the closed position of 4 feet at mean high water and 8 feet at mean low water. The existing bridge operating regulations are found at 33 CFR 117.211(a).

The waterway is transited by commercial vessels and seasonal recreational vessels of various sizes.

The bridge owner, National Railroad Passenger Corporation (Amtrak), requested a temporary deviation from the normal operating schedule to facilitate mechanical and electrical repairs at the bridge.

Under this temporary deviation, in effect from January 24, 2015 through March 27, 2015, the Amtrak Railroad Bridge shall remain in the closed position from January 24, 2015 through February 6, 2015; from February 12, 2015 through February 25, 2015; from March 3, 2015 through March 12, 2015; and from March 18, 2015 through March 27, 2015.

The draw shall maintain its normal operating schedule at all other times.

There are no alternate routes for vessel traffic; however, vessels that can pass under the closed draws during this closure may do so at all times. The bridge may be opened in the event of an emergency.

The Coast Guard will inform the users of the waterways through our Local and Broadcast Notice to Mariners of the change in operating schedule for the bridges so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 15, 2014.
C.J. Bisignano,
Supervisory Bridge Management Specialist, First Coast Guard District.

[FR Doc. 2014-30454 Filed 12-29-14; 8:45 am]

BILLING CODE 9110-04-P